DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Maternal and Child Health Services Title V Block Grant Program—Guidance and Forms for the Title V Application/Annual Report, OMB No.0915-0172: Revision

The Health Resources and Services Administration (HRSA) proposes to revise the Maternal and Child Health Services Title V Block Grant Program—Guidance and Forms for the Application/Annual Report. The guidance is used annually by the 50 States and 9 jurisdictions in making application for Block Grants under Title V of the Social Security Act, and in preparing the required annual report. The proposed revisions follow and build on extensive consultation received from a workgroup convened to provide suggestions to improve the guidance and forms. The proposed revisions are editorial and technical revisions based on the experience of the states and jurisdictions in using the guidance and forms since 2003.

Two new performance measures were developed (obesity in children aged 2 to 5 years; and smoking in the last trimester of pregnancy) and two existing performance measures were either removed entirely (low birth weight) or incorporated into an existing health status capacity indicator (eligible children receiving services under Medicaid). This will result in no net increase in the number of performance measures. In addition, the directions in the guidance for the Health Systems Capacity Indicators (HSCI) were expanded to enhance clarification. This proposed change will make it easier for the states to report on these indicators.

The existing electronic system used by the states to submit their Block Grant Application and Annual Report has also been enhanced. First, using the electronic system, the narrative from the prior year's submission is available online in the system so that the applicant need only edit those sections that have changed. This reduces burden by avoiding duplicating material. For national performance measures 2-6, the data obtained from the National Survey of Children with Special Health Care Needs are pre-populated which eliminates the need to retrieve and enter data from this survey, unless the states choose to use another data source. Also, notes from the prior year's submission are available to the states allowing for more efficient updating through edits rather then recreating them. Data are entered once (in a data entry field on a given form), and where those data are referenced elsewhere, the value is copied and displayed. The electronic system includes an automatic character counter that tells the user how many characters the states have left. This eliminates the need to independently track entries against the Maternal and Child Health Bureau's limits for each section and ensures compliance. The electronic system includes forms status checker and data alerts, which conduct automated checks on data validity, data consistency, and application completeness, as well as value tolerance checks. This facilitates application review and eliminates much of previously required data cleaning activity. Also, this allows the user to obtain an immediate update at any point in time on the completeness and compliance of the application, reducing the need to conduct a review of the application. Data are saved directly to the HRSA server so that no manual transmission is required. Finally, the automatic commitment of data to the HRSA server eliminates the need for version control or data migration.

The estimated average annual burden per year is as follows for the Annual Report and Application without the Needs Assessment:

Type of respondent | Number of respondents | Responses per respondent | Burden hours per response | Total burden hours
States | 50 | 1 | 297 | 14,868
Jurisdictions | 9 | 1 | 120 | 1,077
Total |  |  | 59 | 15,945

Burden in the 3 Year Reporting Cycle for the Annual Report and Application with Needs Assessment is:

Needs assessment | Number of respondents | Burden hours per responses | Responses per respondent | Total burden hours
States/Jurisdictions | 59 | 378.5 | 1 | 22,303
Total Average Burden for 3 year cycle |  |  |  | 18,064

Send comments to Susan G. Queen, PhD., HRSA Reports Clearance Officer, Room 10-33, Parklawn Building, 5600 Fishers Lane, Rockville, MD 20857. Written comments should be received within 60 days of notice.

Dated: September 23, 2005.
Tina M. Cheatham,
Director, Division of Policy Review and Coordination.

[FR Doc. 05-19432 Filed 9-28-05; 8:45 am]

BILLING CODE 4165-15-P